DEPARTMENT OF ENERGY

Federal Energy Regulatory Commission

[Project No. 2354-103]

Georgia Power Company; Notice of Application for Amendment of License and Soliciting Comments, Motions To Intervene, and Protests

a. Type of Application: Non-project use of project lands and waters.

b. Project Number: 2354-103.

c. Date Filed: October 24, 2008.

d. Applicant: Georgia Power Company.

e. Name of Project: North Georgia Hydroelectric Project.

f. Location: The LaPrades Marina is located in the Wildcat Creek cove on Lake Burton in Rabun County, Georgia.

g. Filed Pursuant to: Federal Power Act, 16 U.S.C. 791(a) 825(r) and § 799 and 801.

h. Applicant Contact: Ms. Wanda Greene, Compliance & Forestry Manager, Georgia Power Company, telephone: (404) 506-2392.

i. FERC Contact: Any questions on this notice should be addressed to Christopher Yeakel at (202) 502-8132, or e-mail address: christopher.yeakel@ferc.gov.

j. Deadline for filing comments and/or motions: December 12, 2008.

k. Description of Request: Georgia Power Company requests approval to permit Vinings Marine Group, LLC, to: (1) Remove two existing docks with a total capacity of 62 watercraft; (2) remove 7 existing boathouses; (3) construct four new covered boat docks with a total capacity of 140 watercraft; (4) construct one new uncovered dock with a capacity of 40 watercraft; and (5) construct 16 new boathouses. The existing boat ramp and two fuel docks would remain. No dredging is proposed. In developing the application, the licensee consulted with the U.S. Fish and Wildlife Service, the Georgia Department of Natural Resources, Wildlife Resources and Law Enforcement Divisions, and the Georgia State Historic Preservation Officer.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-2354) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS,” “RECOMMENDATIONS FOR TERMS AND CONDITIONS,” “PROTEST,” OR “MOTION TO INTERVENE,” as applicable, and the Project Number of the particular application to which the filing refers (p-2354-103). All documents (original and eight copies) should be filed with: Kimberly D. Bose, Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-27375 Filed 11-18-08; 8:45 am]

BILLING CODE 6717-01-P